NATIONAL SCIENCE FOUNDATION

Agency Information Collection Activities: Comment Request

AGENCY: National Science Foundation.

ACTION: Submission for OMB review; comment request.

SUMMARY: The National Science Foundation (NSF) has submitted the following information collection requirement to OMB for review and clearance under the Paperwork Reduction Act of 1995. This is the second notice for public comment; the first was published in the Federal Register and one request for a copy of the information collection was received. NSF is forwarding the proposed renewal submission to the Office of Management and Budget (OMB) for clearance simultaneously with the publication of this second notice.

DATES: Written comments and recommendations for the proposed information collection should be sent within 30 days of publication of this notice to www.reginfo.gov/public/do/PRAmain. Find this particular information collection by selecting “Currently under 30-day Review—Open for Public Comments” or by using the search function.

FOR FURTHER INFORMATION CONTACT: Suzanne H. Plimpton, Reports Clearance Officer, National Science Foundation, 2415 Eisenhower Avenue, Alexandria, VA 22314, or send email to splimpto@nsf.gov. Individuals who use a telecommunications device for the deaf (TDD) may call the Federal Information Relay Service (FIRS) at 1-800-877-8339, which is accessible 24 hours a day, 7 days a week, 365 days a year (including federal holidays). Comments regarding this information collection are best assured of having their full effect if received within 30 days of this notification. Copies of the submission(s) may be obtained by calling 703-292-7556.

Comments: Comments are invited on (a) whether the proposed collection of information is necessary for the proper performance of the functions of the Agency, including whether the information shall have practical utility; (b) the accuracy of the Agency's estimate of the burden of the proposed collection of information; (c) ways to enhance the quality, utility, and clarity of the information on respondents, including through the use of automated collection techniques or other forms of information technology; and (d) ways to minimize the burden of the collection of information on those who are to respond, including through the use of appropriate automated, electronic, mechanical, or other technological collection techniques or other forms of information technology.

As required by 5 CFR 1320.8(d), comments on the information collection activities as part of this study were solicited through publication of a 60-Day Notice in the Federal Register on March 30, 2022, at 87 FR 18399. One comment was received, to which we here respond. The comment came from the Bureau of Economic Analysis (BEA). They expressed general support for the HERD and FFRDC surveys and requested that they be informed of any future questionnaire modifications. NCSES is in regular contact with BEA about their data needs and sends annual data files to support their national income and product accounts (NIPAs), industry economic accounts (IEAs), and gross domestic product (GDP) by state estimates. BEA noted the specific items used from each survey.

NSF may not conduct or sponsor a collection of information unless the collection of information displays a currently valid OMB control number, and the agency informs potential persons who are to respond to the collection of information that such persons are not required to respond to the collection of information unless it displays a currently valid OMB control number.

SUPPLEMENTARY INFORMATION:

Title of Collection: Higher Education Research and Development Survey.

OMB Number: 3145-0100.

Type of Request: Renewal with change of an information collection.

Proposed Project: The Higher Education Research and Development (R&D) Survey (formerly known as the Survey of R&D Expenditures at Universities and Colleges) originated in fiscal year (FY) 1954 and has been conducted annually since FY 1972. The survey represents one facet of the higher education component of the NSF's National Center for Science and Engineering Statistics (NCSES) statistical program authorized by the America COMPETES Reauthorization Act of 2010 § 505, codified in the National Science Foundation Act of 1950 (NSF Act), as amended, at 42 U.S.C. 1862. The collection also includes the Federally Funded Research and Development (FFRDC) R&D survey, which has been conducted annually for all FFRDCs since 2001. Between 1953 and 2001, only FFRDCs administered by academic institutions were surveyed.

Use of the Information: The proposed project will continue the annual survey cycle for three years. The Higher Education R&D Survey will provide continuity of statistics on R&D expenditures by source of funding, type of R&D (basic research, applied research, or development), and field of research, with separate data requested on research equipment by field.

Data are published in NSF's annual publication series Higher Education Research and Development, available on the web at http://www.nsf.gov/statistics/srvyherd/.

The Federally Funded Research and Development Centers R&D survey will also provide continuity of statistics on R&D expenditures by source of funding (federal, state and local, business, nonprofit, or other, and federal agency source), and type of R&D (basic research, applied research, or development). Beginning with FY 2022, the FFRDC R&D survey will collect headcounts and full-time equivalents of R&D personnel (researchers, R&D technicians, and R&D support staff).

Data are published in NSF's annual publication series FFRDC Research and Development Survey, available on the web at https://www.nsf.gov/statistics/srvyffrdc/.

Expected respondents: The FY 2022 Higher Education R&D Survey will be administered to approximately 650 institutions. In addition, a shorter version of the survey asking for R&D expenditures by source of funding and broad field will be sent to approximately 275 institutions spending at least $150 thousand but less than $1 million on R&D in their previous fiscal year. A short population review screener is also sent to approximately 125 institutions before the survey cycle to identify potential eligible institutions not already in the survey frame. Finally, a survey requesting R&D expenditures by source of funds, cost categories, and type of R&D will be administered to the 42 Federally Funded Research and Development Centers.

Estimate of burden: The survey is a fully automated web data collection effort and is handled primarily by administrators in university sponsored programs and accounting offices. Response to this voluntary survey has exceeded 95 percent each year.

The total annual calculated burden across all forms is 44,613 hours. Additional details on the burden calculation can be found in the first Federal Register Notice. This estimated burden includes 100 average annual burden hours requested for research on the development of national totals for R&D capital expenditures and depreciation of R&D assets. This research will be conducted in 2022 and 2023.

Dated: June 16, 2022.
Suzanne H. Plimpton,
Reports Clearance Officer, National Science Foundation.

[FR Doc. 2022-13399 Filed 6-22-22; 8:45 am]

BILLING CODE 7555-01-P